DEPARTMENT OF TRANSPORTATION

Federal Transit Administration

Transfer of Federally Assisted Facility

AGENCY: Federal Transit Administration (FTA), DOT.

ACTION: Notice of intent to transfer Federally assisted facility.

SUMMARY: Section 5334(h) of the Federal Transit Laws, as codified, 49 U.S.C. 5301, et. seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal agencies that VIA Metropolitan Transit (VIA) intends to transfer the facility at 7535 Merton Mintor, Bexar County, San Antonio, Texas, to University Health System (a.k.a Bexar County Hospital District, hereinafter “District”), a political subdivision of the State of Texas in San Antonio, Texas, serving Bexar County. The facility is attached and connected to a building and parking garage at the South Texas Medical Center. VIA used the facility from approximately 1998 to 2012 as a transfer facility. VIA discontinued use of the facility in December 2012 with the opening of its new medical center transfer facility at a different location.

The District intends to use the facility for various hospital departments, including the Information Technology Department, and a Pediatric Food Bank. The transfer will provide benefits to the hospital by providing space for hospital department personnel and operations. The transfer will provide a benefit to the community in the form of the Pediatric Food Bank, filling a need for children that will allow them to stay nourished and healthy, with the goal of avoiding unnecessary hospital stays. The District plans to use the facility for at least 20 years and is planning renovations to the facility and its systems.

DATES: Effective Date: Any Federal agency interested in acquiring the facility must notify the FTA Region VI office of its interest no later than November 3, 2016.

ADDRESSES: Interested parties should notify the Regional Office by writing to Robert C. Patrick, Regional Administrator, Federal Transit Administration, 819 Taylor Street, Room 8A36, Fort Worth, TX 76102

FOR FURTHER INFORMATION CONTACT: Eldridge Onco, Regional Counsel, (817) 978-0557.

SUPPLEMENTARY INFORMATION:

Background

49 U.S.C. 5334(h) provides guidance on the transfer of capital assets. Specifically, if a recipient of FTA assistance decides an asset acquired under this chapter at least in part with that assistance is no longer needed for the purpose for which it was acquired, the Secretary of Transportation may authorize the recipient to transfer the asset to a local governmental authority to be used for a public purpose with no further obligation to the Government. 49 U.S.C. 5334(h)(1).

Determinations

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. 5334(h)(1)(D) of the Federal Transit Laws. Accordingly, FTA hereby provides notice of the availability of the facility further described below. Any Federal agency interested in acquiring the affected facility should promptly notify the FTA. If no Federal agency is interested in acquiring the existing facility, FTA will make certain that the other requirements specified in 49 U.S.C. 5334(h)(1)(A) through (C) are met before permitting the asset to be transferred.

Additional Description of Land or Facility

The subject improvement is located on property legally described as: NCB 12816 BLK 6 LOT NE IRR 781.56 FT OF 4. The subject property consists of an easement encumbered with an improvement (building) and does not include fee to the land. The improvement is approximately 1925 square feet consisting of a waiting area, two restrooms, ticket office and an elevator. The elevator goes up to the crosswalk of the University Health Center crosswalk. The facility is in fair to good condition. Public utilities are available: Water; sewer; telephone; and cable. The improvements are attached to a parking garage owned by the District. The facility is no longer used by VIA because the agency constructed a new transfer center in the immediate vicinity. The easement to VIA restricts the use to public transportation purposes.

If no Federal agency is interested in acquiring the existing facility, FTA will make certain that the other requirements specified in 49 U.S.C. 5334(h)(1)(A) through (C) are met before permitting the asset to be transferred.

Robert C. Patrick,
Regional Administrator, Federal Transit Administration Region VI.

[FR Doc. 2016-23940 Filed 10-3-16; 8:45 am]

BILLING CODE 4910-57-P